DEPARTMENT OF EDUCATION

Office of Special Education and Rehabilitative Services; List of Correspondence

AGENCY: Department of Education.

ACTION: List of correspondence from October 1, 2001 through December 31, 2001.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507.

If you use a telecommunications device for the deaf (TDD) you may call (202) 205-5637 or the Federal Information Relay Service (FIRS) at 1-800-877-8339.

Individuals with disabilities may obtain a copy of this notice in an alternative format (e.g., Braille, large print, audiotape, or computer diskette) on request to Katie Mincey, Director of the Alternate Formats Center. Telephone: (202) 205-8113.

SUPPLEMENTARY INFORMATION: The following list identifies correspondence from the Department issued from October 1, 2001 through December 31, 2001.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part B; Assistance for Education of All Children with Disabilities

Section 611—Authorization; Allotment; Use of Funds; Authorization of Appropriations

Section 619—Preschool Grants

Topic Addressed: Allocation of Grants

• Letter dated December 18, 2001 to U.S. Congressman Charles F. Bass, regarding implementation of the Preschool Grants and Assistance to States formulas and the options available for distribution of funds under sections 611 and 619.

Section 612—State Eligibility.

Topic Addressed: Confidentiality of Education Records

• Letter dated December 4, 2001 to U.S. Congressman Roscoe E. Bartlett from Family Policy Compliance Office Director LeRoy Rooker, regarding the circumstances under which an educational agency can permit the disclosure of education records without prior written parental consent.

Topic Addressed: Children In Private Schools

• Letter dated October 4, 2001 to individual, (personally identifiable information redacted), clarifying that there is no inconsistency between the statute and the regulations implementing IDEA regarding the extent of rights available to parentally-placed private school children with disabilities and their parents.

Topic Addressed: State Educational Agency General Supervisory Authority

• Letter dated November 6, 2001 to Ohio Department of Education Interim Director of the Office for Exceptional Children Ed Kapel, regarding a State's obligation to resolve complaints in accordance with the complaint requirements in Part B within the required timeline.

Topic Addressed: Assessments

• Letter dated October 10, 2001 to U.S. Congressman Curt Weldon, regarding the Federal requirements for including children with disabilities in assessments and the implementation of the IDEA provisions related to alternate assessments.

Section 614—Evaluations, Eligibility Determinations, Individualized Education Programs, and Educational Placements.

Topic Addressed: Evaluations and Reevaluations

• Letter dated November 5, 2001 to New Jersey Department of Education Commissioner Vito A. Gagliardi, Sr., regarding the IDEA Part B requirement that parental consent must be obtained before the initial evaluation, the reevaluation, and the provision of special education and related services and the fact that Part B does not permit public agencies to override a parent's refusal of consent for initial services or to initiate a due process hearing if a parent refuses consent to the initial provision of special education and related services.

Topic Addressed: Educational Placements

• Letter dated November 26, 2001 to Attorney Paul Veazey regarding the role of the placement team, including the child's parents, in the placement decision for a child with a disability and the authority of a public agency to make an administrative determination of the educational placement of a child with a disability consistent with the placement team's decision.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-800-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.027, Assistance to States for Education of Children with Disabilities.)

Dated: March 22, 2002.
Robert H. Pasternack,
Assistant Secretary for Special Education and Rehabilitative Services.

[FR Doc. 02-7473 Filed 3-27-02; 8:45 am]

BILLING CODE 4000-01-P